ENVIRONMENTAL PROTECTION AGENCY

[FRL-10007-51-OA]

Notification of a Public Meeting of the Science Advisory Board Economic Guidelines Review Panel

AGENCY: Environmental Protection Agency (EPA).

ACTION: Notice.

SUMMARY: The Environmental Protection Agency (EPA) Science Advisory Board (SAB) Staff Office announces a public meeting of the Science Advisory Board Economic Guidelines Review Panel. The purpose of the meeting is to receive an agency briefing, review charge questions and hear public comments for the EPA's revised document titled “Guidelines for Preparing Economic Analyses.”

DATES: The public teleconference will be held on April 23, 2020, from 11:00 a.m. to 3:00 p.m. (Eastern Time).

ADDRESSES: The public teleconference will be conducted by telephone only.

FOR FURTHER INFORMATION CONTACT: Any member of the public who wants further information concerning this notice may contact Dr. Shaunta Hill-Hammond, Designated Federal Officer (DFO), EPA Science Advisory Board (1400R), U.S. Environmental Protection Agency, 1200 Pennsylvania Avenue NW, Washington, DC 20460; via telephone/voice mail (202) 564-3343, or email at hill-hammond.shaunta@epa.gov. General information about the SAB, as well as any updates concerning the meeting announced in this notice can be found on the SAB website at http://www.epa.gov/sab.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the Science Advisory Board Economic Guidelines Review Panel will hold a public meeting to receive a briefing from the agency, discuss charge questions and hear public comments for the EPA's revised document titled “Guidelines for Preparing Economic Analyses.” The purpose of the document is to define and describe best practices for economic analysis grounded in the economics literature. It also describes Executive Orders and other documents that impose analytic requirements and provides detailed information on selected important topics for economic analyses.

Availability of Meeting Materials: All meeting materials, including the agenda will be available prior to the meetings on the SAB web page at http://epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instruction below to submit comments.

Oral Statements: In general, individuals or groups requesting an oral presentation at a public teleconference will be limited to three minutes. Each person making an oral statement should consider providing written comments as well as their oral statement so that the points presented orally can be expanded upon in writing. Persons interested in providing oral statements should contact the DFO, in writing (preferably via email) at the contact information noted above, to be placed on the list of registered speakers by April 15, 2020.

Written Statements: Written statements will be accepted throughout the advisory process; however, for timely consideration by SAB members, statements should be received in the SAB Staff Office by April 15, 2020 Written statements should be supplied to the DFO at the contact information above via email (preferred) or in hard copy with original signature. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact the DFO, at the contact information noted above, preferably at least ten days prior to the meeting, to give the EPA as much time as possible to process your request.

V. Khanna Johnston,
Deputy Director, EPA Science Advisory Board Staff Office.

[FR Doc. 2020-06658 Filed 3-30-20; 8:45 am]

BILLING CODE 6560-50-P